DEPARTMENT OF HEALTH AND HUMAN SERVICES

Centers for Disease Control and Prevention

[60 Day-16-15BHH; Docket No. CDC-2016-0087]

Proposed Data Collection Submitted for Public Comment and Recommendations

AGENCY: Centers for Disease Control and Prevention (CDC), Department of Health and Human Services (HHS).

ACTION: Cancellation of notice with comment period

SUMMARY: The notice “Proposed Data Collection Submitted for Public Comment and Recommendations” on Personal Protective Equipment Information (PPE-Info) Database (80 FR 60906, October 8, 2015) is cancelled. This noticed invited comment on the Personal Protective Equipment Information (PPE-Info) Database which is a compendium of personal protective equipment (PPE) Federal regulations and consensus standards. This proposed data collection will be resubmitted at a later date for public comment once the review to include one additional standard is completed on the data collection instrument.

FOR FURTHER INFORMATION CONTACT: (404) 639-7570 or send comments to CDC, Leroy Richardson, 1600 Clifton Road, MS D-74, Atlanta, GA 30333 or send an email to omb@cdc.gov.

Dated: October 8, 2015.
Leroy A. Richardson,
Chief, Information Collection Review Office, Office of Scientific Integrity, Office of the Associate Director for Science, Office of the Director, Centers for Disease Control and Prevention.

[FR Doc. 2015-26067 Filed 10-8-15; 4:15 pm]

BILLING CODE 4163-18-P